DEPARTMENT OF ENERGY

Federal Energy Regulatory Commission

Combined Notice of Filings #2

Take notice that the Commission received the following electric corporate filings:

Docket Numbers: EC11-117-000.

Applicants: Central Vermont Public Service Corporation, Gaz Metro Limited Partnership, Northern New England Energy Corporation, Green Mountain Power Corporation.

Description: Section 203 Application of Central Vermont Public Service Corporation and Gaz Metro, et al. for Authorization for Purchase, Disposition and Merger of Jurisdictional Facilities.

Filed Date: 09/09/2011.

Accession Number: 20110909-5279.

Comment Date: 5 p.m. Eastern Time on Tuesday, November 8, 2011.

Docket Numbers: EC11-118-000.

Applicants: Amsterdam Generating Company, LLC, ESI Energy, LLC, Blythe Energy, LLC, Calhoun Power Company I, LLC, Doswell Limited Partnership.

Description: Amsterdam Generating Company, LLC, et al. joint application for approval under section 203 of the Federal Power Act, request for shortened comment period, and request for expedited treatment.

Filed Date: 09/09/2011.

Accession Number: 20110909-5285.

Comment Date: 5 p.m. Eastern Time on Friday, September 30, 2011.

Take notice that the Commission received the following electric rate filings:

Docket Numbers: ER11-3576-003; ER97-3583-007; ER11-3401-004; ER10-3138-003.

Applicants: Golden Spread Electric Cooperative, Inc., GS ELECTRIC GENERATING COOPERATIVE INC, Denver City Energy Associates, L.P., Golden Spread Panhandle Wind Ranch, LLC.

Description: Notice of Change in Status of Golden Spread Electric Cooperative, Inc. et al.

Filed Date: 09/12/2011.

Accession Number: 20110912-5118.

Comment Date: 5 p.m. Eastern Time on Monday, October 3, 2011.

Docket Numbers: ER11-4498-000.

Applicants: Smoky Hills Wind Farm, LLC.

Description: Smoky Hills Wind Farm, LLC submits tariff filing per 35.1: Smoky Hills Wind Farm, LLC MBR Tariff to be effective 10/31/2007.

Filed Date: 09/12/2011.

Accession Number: 20110912-5000.

Comment Date: 5 p.m. Eastern Time on Monday, October 3, 2011.

Docket Numbers: ER11-4499-000.

Applicants: Smoky Hills Wind Project II, LLC.

Description: Smoky Hills Wind Project II, LLC submits tariff filing per 35.1: Smoky Hills Wind Project II, LLC MBR Tariff to be effective 10/20/2008.

Filed Date: 09/12/2011.

Accession Number: 20110912-5001.

Comment Date: 5 p.m. Eastern Time on Monday, October 3, 2011.

Docket Numbers: ER11-4500-000.

Applicants: Enel Stillwater, LLC.

Description: Enel Stillwater, LLC submits tariff filing per 35.1: Enel Stillwater, LLC MBR Tariff to be effective 12/5/2008.

Filed Date: 09/12/2011.

Accession Number: 20110912-5002.

Comment Date: 5 p.m. Eastern Time on Monday, October 3, 2011.

Docket Numbers: ER11-4501-000.

Applicants: Caney River Wind Project, LLC.

Description: Caney River Wind Project, LLC submits tariff filing per 35.12: Caney River Wind Project, LLC MBR Tariff to be effective 10/1/2011.

Filed Date: 09/12/2011.

Accession Number: 20110912-5003.

Comment Date: 5 p.m. Eastern Time on Monday, October 3, 2011.

Docket Numbers: ER11-4502-000.

Applicants: HEEP Fund Inc.

Description: HEEP Fund Inc submits notice of cancellation to its FERC Electric Tariff, Original Volume No 1, effective 10/30/11.

Filed Date: 09/09/2011.

Accession Number: 20110912-0201.

Comment Date: 5 p.m. Eastern Time on Friday, September 30, 2011.

Docket Numbers: ER11-4503-000.

Applicants: PJM Interconnection, L.L.C.

Description: Notices of Cancellation of PJM Interconnection, L.L.C. for First Revised Service Agreement No. 2020 and Original Service Agreement No. 2021.

Filed Date: 09/09/2011.

Accession Number: 20110909-5293.

Comment Date: 5 p.m. Eastern Time on Friday, September 30, 2011.

Take notice that the Commission received the following land acquisition reports:

Docket Numbers: LA11-2-000.

Applicants: The Detroit Edison Company, DTE Energy Trading, Inc., DTE River Rouge No. 1, L.L.C., DTE East China, LLC, DTE Pontiac North, LLC, DTE Stoneman, LLC, DTE Energy Supply, Inc., Woodland Biomass Power Ltd.

Description: Amended Quarterly Report Pursuant to 18 CFR sec. 35.42(d) for the Second Quarter of 2011 of The Detroit Edison Company, et al.

Filed Date: 09/09/2011.

Accession Number: 20110909-5287.

Comment Date: 5 p.m. Eastern Time on Friday, September 30, 2011.

Take notice that the Commission received the following electric reliability filings

Docket Numbers: RD11-11-000.

Applicants: Western Electricity Coordinating Council.

Description: Western Electricity Coordinating Council Compliance Filing in response to Order Numbers 751 and 752 on Version One Regional Reliability Standards.

Filed Date: 06/20/2011.

Accession Number: 20110620-5190.

Comment Date: 5 p.m. Eastern Time on Wednesday, October 12, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2011.
Nathaniel J. Davis, Sr.,
Deputy Secretary.

[FR Doc. 2011-24033 Filed 9-19-11; 8:45 am]

BILLING CODE 6717-01-P